DEPARTMENT OF HEALTH AND HUMAN SERVICES

Administration for Children and Families

[CFDA Number: 93.568]

Reallotment of Federal Fiscal Year 2014 Funds for the Low Income Home Energy Assistance Program (LIHEAP)

AGENCY: Office of Community Services, ACF, HHS.

ACTION: Notice of determination concerning funds available for reallotment.

SUMMARY: Notice is hereby given of a preliminary determination that funds from the Federal Fiscal Year (FY) 2014 Low Income Home Energy Assistance Program (LIHEAP) are available for reallotment to states, territories, tribes, and tribal organizations that receive FY 2015 direct LIHEAP grants. No subgrantees or other entities may apply for these funds. Section 2607(b)(1) of the Low Income Home Energy Assistance Act (the Act), (42 U.S.C. 8626(b)(1)) requires that, if the Secretary of the U.S. Department of Health and Human Services (HHS) determines that, as of September 1 of any fiscal year, an amount in excess of 10 percent of the amount awarded to a grantee for that fiscal year (excluding Leveraging, REACH, and reallotted funds) will not be used by the grantee during that fiscal year, then the Secretary must notify the grantee and publish a notice in the Federal Register that such funds may be reallotted to LIHEAP grantees during the following fiscal year. If reallotted, the LIHEAP block grant allocation formula will be used to distribute the funds. No funds may be allotted to entities that are not direct LIHEAP grantees during FY 2015.

DATES: The comment period expires July 29, 2015.

FOR FURTHER INFORMATION CONTACT: Lauren Christopher, Director, Division of Energy Assistance, Office of Community Services, 370 L'Enfant Promenade SW., Washington, DC 20447; telephone (202) 401-4870; email: lauren.christopher@acf.hhs.gov.

SUPPLEMENTARY INFORMATION: It has been determined that $4,352,881 may be available for reallotment during FY 2015. This determination is based on carryover and reallotment reports from West Virginia; Pueblo of Laguna; Delaware Tribe of Indians; Colorado River Indian Tribes of the Colorado River Indian Reservation; Five Sandoval Indian Pueblos, Inc.; and Kodiak Area Native Association, which were submitted to the Office of Community Services (OCS) as required by regulations applicable to LIHEAP at 45 CFR 96.82.

The statute allows grantees who have funds unobligated at the end of the fiscal year for which they are awarded to request that they be allowed to carry over up to 10 percent of their allotments to the next fiscal year. Funds in excess of this amount must be returned to HHS and are subject to reallotment under section 2607(b)(1) of the Act (42 U.S.C. 8626(b)(1)). The amount described in this notice was reported as unobligated FY 2014 funds in excess of the amount that these grantees could carry over to FY 2015.

OCS notified each of the grantees and confirmed that the FY 2014 funds indicated in the chart may be reallotted. In accordance with section 2607(b)(3) of the Act (42 U.S.C. 8626(b)(3)), comments will be accepted for a period of 30 days from the date of publication of this notice. Comments may be submitted to: Jeannie L. Chaffin, Director, Office of Community Services, 370 L'Enfant Promenade SW., 5th Floor—West, Washington, DC 20447.

After considering any comments submitted, the Chief Executive Officers will be notified of the final reallotment amount. This decision will be published in the Federal Register.

If funds are reallotted, they will be allocated in accordance with section 2604 of the Act (42 U.S.C. 8623) and must be treated by LIHEAP grantees receiving them as an amount appropriated for FY 2015. As FY 2015 funds, they will be subject to all requirements of the Act, including section 2607(b)(2) (42 U.S.C. 8626(b)(2)), which requires that a grantee obligate at least 90 percent of its total block grant allocation for a fiscal year by the end of the fiscal year for which the funds are appropriated, that is, by September 30, 2015.

Estimated Reallotment Amounts of FY 2014 LIHEAP Funds
Grantee name | FY 2014 reallotment amount
Pueblo of Laguna | $27,708
Delaware Tribe of Indians | 8,841
Colorado River Indian Tribes of the Colorado River Indian Reservation | 12,667
Five Sandoval Indian Pueblos, Inc | 13,243
Kodiak Area Native Association | 1,070
West Virginia | 4,289,352
Total | 4,352,881

Statutory Authority: 42 U.S.C. 8626.

Mary M. Wayland,
Senior Grants Policy Specialist, Office of Administration, Division of Grants Policy.

[FR Doc. 2015-15859 Filed 6-26-15; 8:45 am]

BILLING CODE 4184-80-P